DEPARTMENT OF HEALTH AND HUMAN SERVICES

Health Resources and Services Administration

Family-To-Family Health Information Center Program

AGENCY: Health Resources and Services Administration, HHS.

ACTION: Notice of noncompetitive replacement award to Colorado Non-Profit Development Center.

SUMMARY: The Health Resources and Services Administration (HRSA) will be transferring Family Voices Colorado Family-To-Family Health Information Center (F2F HIC) grant (H84 MC 09577) from Cerebral Palsy of Colorado to the Colorado Non-Profit Development Center in Denver in order to ensure the continued provision of health resources, financing, related services and parent-to-parent support for families with children and youth with special health care needs in the State of Colorado.

SUPPLEMENTARY INFORMATION: Former Grantee of Record: Cerebral Palsy of Colorado.

Original Period of Grant Support: June 1, 2008, to May 31, 2011.

Replacement awardee: Colorado Non-Profit Development Center.

Amount of Replacement Award: $153,572 for year 2 and $95,700 for year 3 of the remaining project period.

Period of Replacement Award: The period of support for the replacement award is July 1, 2009, to May 31, 2011.

Authority: Section 501(c)(1)(A) of the Social Security Act.

CFDA Number: 93.110.

Justification for the Exception to Competition:

The F2F HICs were legislated by Congress under the Family Opportunity Act/Budget Deficit Reduction Act. Congress specified that there be a family staffed center in each State and the District of Columbia by June 2009. The former grantee, Family Voices of Colorado, received a competitive grant in 2008 operating under the non-profit, Cerebral Palsy of Colorado. Family Voices of Colorado notified HRSA that it would be unable to continue providing services to families and providers as had been proposed in their Family-To-Family Health Information Center grant application under Cerebral Palsy of Colorado and will now be providing services under the Colorado Nonprofit Development Center.

It is critical that Family Voices of Colorado continue helping families of children and youth with special health care needs (CYSHCN) gain access to information they need to make informed health care decisions, be full partners in decision-making and access needed resources/referrals and financing for those services in the State of Colorado. It is also critical that they continue to train and support healthcare providers and other professionals in public and private agencies who serve Colorado's CYSHCN, helping them better understand the needs of children, youth and their families.

CYSHCN are defined as “those children and youth who have or are at increased risk for a chronic physical, developmental, behavioral, or emotional condition and who also require health and related services of a type or amount beyond that required by children generally” (American Academy of Pediatrics, 1998). This is particularly relevant since more than 28% of CYSHCN in Colorado had problems getting referrals to care. Only 22% of Colorado families of a CYSHCN identified that community-based service systems are organized for easy use. In addition, because of changes occurring in State services and their funding for CYSHNC, many families and providers alike need to be kept up to date on these changes so that they can access appropriate services. This center is urgently needed to address these gaps and disparities in information and services.

The Colorado Non-Profit Development Center was identified as an umbrella agency with a demonstrated history of providing a full array of technical assistance and fiscal management services to entities such as Family Voices of Colorado. This replacement award will ensure that Family Voices of Colorado can continue to provide critical information, referral and support services to families with children having special health care needs throughout Colorado and in a manner which avoids any disruption of services.

FOR FURTHER INFORMATION CONTACT: Diana Denboba, Integrated Services Branch Chief, Maternal and Child Health Bureau, HRSA, 5600 Fishers Lane, Rockville, MD 20857, via e-mail at DDenboba@hrsa.gov or via telephone at 301 443-9332.

Dated: July 22, 2009.
Mary K. Wakefield,
Administrator.

[FR Doc. E9-18125 Filed 7-29-09; 8:45 am]

BILLING CODE 4165-15-P